CHEMICAL SAFETY AND HAZARD INVESTIGATION BOARD

Sunshine Act Meeting

TIME AND DATE: July 16, 2014 12:00 p.m.-3:00 p.m. EDT.

PLACE: Four Points Sheraton, Ballroom, 600 Kanawha Blvd. E, Charleston, WV 25301.

STATUS: Open to the public.

MATTERS TO BE CONSIDERED: The Chemical Safety and Hazard Investigation Board (CSB) will convene a public meeting on July 16, 2014, starting at 12:00 p.m. in the Ballroom at the Four Points Sheraton located at 600 Kanawha Blvd. E, Charleston, WV 25301.

At the public meeting, the board will hear findings and recommendations from the CSB's investigation team into the December 9, 2010, explosion and fire which occurred at AL Solutions located in New Cumberland, WV. An explosion ripped through the New Cumberland AL Solutions titanium plant in West Virginia on December 9, 2010, fatally injuring three workers. The workers were processing titanium powder, which is highly combustible, at the time of the explosion. The meeting will also provide an update on the CSB's investigation into the January 9, 2014, tank leak at Freedom Industries that contaminated the local water supply leaving hundreds of thousands of West Virginia residents without clean drinking water.

This public meeting is intended to provide members of the public with information into how this incident occurred and how similar future incidents can be prevented or mitigated.

Following the staff presentation the Board will hear comments from the public. All staff presentations are preliminary and are intended solely to allow the Board to consider in a public forum the issues and factors involved in this case. No factual analyses, conclusions, or findings presented by staff should be considered final until approved by a vote of the Board.

Additional Information

The meeting is free and open to the public. If you require a translator or interpreter, please notify the individual listed below as the “Contact Person for Further Information,” at least five business days prior to the meeting.

The CSB is an independent federal agency charged with investigating industrial chemical accidents. The agency's board members are appointed by the President and confirmed by the Senate. CSB investigations look into all aspects of chemical accidents, including physical causes such as equipment failure as well as inadequacies in regulations, industry standards, and safety management systems.

The Board does not issue citations or fines but does make safety recommendations to plants, industry organizations, labor groups, and regulatory agencies such as OSHA and EPA.

Public Comment

Members of the public are invited to make brief statements to the Board at the conclusion of the staff presentation. The time provided for public statements will depend upon the number of people who wish to speak. Speakers should assume that their presentations will be limited to five minutes or less, but commenters may submit written statements for the record.

Contact Person for Further Information

Hillary J. Cohen, Communications Manager, hillary.cohen@csb.gov or (202) 446-8094. General information about the CSB can be found on the agency Web site at: www.csb.gov.

Dated: June 12, 2014.
Rafael Moure-Eraso,
Chairperson.

[FR Doc. 2014-14171 Filed 6-12-14; 4:15 pm]

BILLING CODE 6350-01-P